DEPARTMENT OF LABOR

Employment Standards Administration

Office of Labor-Management Standards; Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension of the collection of information requirements implementing Executive Order (EO) 13201—Notice of Employee Rights Concerning Payment of Union Dues or Fees. A copy of the proposed information collection request can be obtained by contacting the office listed below in the addresses section of this Notice.

DATES: Written comments must be submitted to the office listed in the addresses section below on or before August 20, 2007.

ADDRESSEE: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION:

I. Background

President George W. Bush signed Executive Order 13201 (EO 13201) on February 17, 2001 to require non-exempt Government contractors and subcontractors to post notices informing their employees that under Federal law those employees have certain rights related to union membership and use of union dues and fees. The Order also provides the text of contractual provisions that Federal Government contracting departments and agencies must include in every non-exempt Government contract. The contractual provisions require contractors to post a notice, informing employees that they cannot be required to join a union or maintain membership in a union as a condition of employment and that portion of dues or fees not used for collective bargaining, contract administration, and grievance adjustment may be refunded to the employee.

The Office of Labor-Management Standards (OLMS) administers the complaint and waiver request procedures of Executive Order 13201 pursuant to its implementing regulatory provisions (29 CFR part 470).

This information collection is currently approved for use through November 30, 2007.

II. Review Focus

The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions

The Department of Labor (DOL) seeks extension of approval to collect this information in order to carry out its responsibility to enforce Executive Order 13201. If this information collection is not conducted, Executive Order 13201 could not be enforced through the complaint procedure; contractors would not be able to avail themselves of the process for obtaining a waiver from the posting requirements in appropriate circumstances.

Type of Review: Extension.

Title: Notice of Employee Rights Concerning Payment of Union Dues or Fees.

OMB Number: 1215-0203.

Affected Public: Business or other for-profit, not-for-profit institutions, Federal Government.

Total Respondents: 30.

Total Responses: 30.

Average Time per Response: 6.1 hours.

Frequency: On occasion.

Estimated Total Burden Hours: 182.

Total Burden Cost (capital/startup): $0.

Total Burden Cost (operating/maintenance): $0.

Comments submitted in response to this notice will be summarized and/or included in the request for Office of Management and Budget approval of the information collection request; they will also become a matter of public record.

Dated: June 14, 2007.
Hazel Bell,
Acting Chief, Branch of Management Review and Internal Control, Division of Financial Management, Office of Management, Administration and Planning, Employment Standards Administration.

[FR Doc. E7-11887 Filed 6-19-07; 8:45 am]

BILLING CODE 4510-CP-P